ENVIRONMENTAL PROTECTION AGENCY

[EPA-HQ-OPP-2008-0416; FRL-8367-4]

Alkyl trimethylenediamines, Bioban P-1487, Copper 8-quinolinolate, Napthenate Salts, Octhilinone, and the Trimethoxysilyl Quaternary Ammonium Chloride Compounds Reregistration Eligibility Decisions; Notice of Availability

AGENCY: Environmental Protection Agency (EPA).

ACTION: Notice.

SUMMARY: This notice announces the availability of EPA's Reregistration Eligibility Decisions (REDs) for the pesticides Alkyl trimethylenediamines (ATMDs), bioban P-1487, copper 8-quinolinolate, napthenate salts, octhilinone, and the trimethoxysilyl quaternary ammonium chloride compounds and opens a public comment period on these documents. The Agency's risk assessments and other related documents also are available in the dockets for these pesticides. The ATMDs are used as microbicides, bacteriocides, and molluscides. Bioban P-1487 is used as a materials preservative and as a microbial growth inhibitor of slime-forming fungi and bacteria. Copper 8-quinolinolate is used as an algaecide, bactericide and fungicide. The naphthenate salts are used as fungicides, microbiocides/microbiostats, and algaecides. Octhilinone is used as an industrial mildewcide, microbiocide, fungicide and bacteriocide. The quaternary ammonium chloride compounds are used as bacteriastat, fungistat, antimicrobial and algaestat.

EPA has reviewed ATMD, bioban P-1487, copper 8-quinolinolate, napthenate salts, octhilinone, and the trimethoxysilyl quaternary ammonium chloride compounds through the public participation process that the Agency uses to involve the public in developing pesticide reregistration and tolerance reassessment decisions. Through these programs, EPA is ensuring that all pesticides meet current health and safety standards.

DATES: Comments must be received on or before September 2, 2008.

ADDRESSES: Submit your comments, identified by docket identification (ID) number, chemical name and contact persons, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket’s normal hours of operation (8:30 a.m. to 4 p.m., Monday through Friday, excluding legal holidays). Special arrangements should be made for deliveries of boxed information. The Docket Facility telephone number is (703) 305-5805.

Instructions: Direct your comments to EPA-HQ-OPP-2008-0416 and the docket number specific to the pesticide of interest as shown in the table in Unit.II. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: The person listed for the pesticide of interest in the table to Unit.II. below.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed for the pesticide of interest in the table to Unit.II.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Docket ID Numbers

When submitting comments, please use the docket ID number, and the chemical name for the pesticide of interest, as shown in the table.

Chemical Name | Docket ID Number | Division | Chemical Review Manager, Telephone Number, E-mail Address
ATMD | EPA-HQ-OPP-2007-0537 | Antimicrobials Division (7510P), Office of Pesticide Programs, Environmental Protection Agency, 1200 Pennsylvania Ave., NW., Washington, DC 20460-0001, fax number: (703) 308-8481. | ShaRon Carlisle, (703) 308-6427, carlisle.sharon@epa.gov
Bioban P-1487 | EPA-HQ-OPP-2007-0402 | Do. | Diane Isbell, (703) 308-8154, isbell.diane@epa.gov
Copper 8-quinolinolate | EPA-HQ-OPP-2007-0556 | Do. | Kathryn Jakob, (703) 305-0012, jakob.kathryn@epa.gov
Naphthenate Salts | EPA-HQ-OPP-2007-0589 | Do. | Diane Isbell, (703) 308-8154, isbell.diane@epa.gov
Octhilinone | EPA-HQ-OPP-2007-0415 | Do. | Kathryn Jakob, (703) 305-0012, jakob.kathryn@epa.gov
Trimethoxysilyl Quaternary Ammonium Chloride Compounds | EPA-HQ-OPP-2007-0831 | Do. | Diane Isbell, (703) 308-8154, isbell.diane@epa.gov

III. Background

A. What Action is the Agency Taking?

Under section 4 of the Federal Insecticide, Fungicide, and Rodenticide Act (FIFRA), EPA is reevaluating existing pesticides to ensure that they meet current scientific and regulatory standards. EPA has completed REDs for the pesticides, ATMD, bioban P-1487, copper 8-quinolinolate, napthenate salts, octhilinone, and the trimethoxysilyl quaternary ammonium chloride compounds under section 4(g)(2)(A) of FIFRA.

ATMDs are used in industrial processes and water systems: oilfield/petrochemical injection water systems; industrial recirculating water cooling systems; non-potable industrial waters; other industrial processing water systems; petroleum transport systems, storage systems and subsurface equipment; natural gas well gathering systems and pipelines; and well completion, packer, stimulation and workover fluids to control microbes, bacteria, or mollusks.

Bioban P-1487 is applied to industrial processes and water systems such as metalworking fluids; oil storage tank bottom water, fuel storage tank bottom water; and to diesel oil, fuel oil, gasoline, and kerosene, as a hydrocarbon preservative to inhibit microorganism growth. As a materials preservative, bioban P-1487 is formulated into products such as metal die cast lubricants, corrosion inhibiting metal coatings, mold-release agents, and fuel conditioners.

Copper 8-quinolinolate is used as a materials preservative and as a wood preservative. Examples of materials that can contain copper 8-quinolinolate include in-can paint preservation, pulp and paperboard, kraft paper, adhesives and glues. Copper 8-quinolinolate is also used as an industrial wood preservative (non-pressure dipping/immersion and pressure methods) to control sapstain and to protect against mold and mildew in soft-wood or hard-wood lumber.

The naphthenate salts are used in industrial and commercial wood preservation for non-pressure (dip/brush/spray) and pressure treatments (vacuum/full-cell) used to protect against fungal rot, decay, termites and wood-boring insects in unfinished wood and various fabricated wood products. In addition, textile preservation is limited to industrial textiles and certain military specified treatments for cellulose-based cotton, canvas, tents/tarps, ropes, cordage and nets.

Octhilinone is used as a materials preservative; as an industrial mildewcide for cooling tower and air washer water systems; and as a wood preservative. Examples of materials that can contain octhilinone include fabrics and textiles, coatings, sealants, adhesives, and rubbers and plastics. Octhilinone is also used for metalworking fluid preservation, hydraulic fluid preservation, and industrial process and water systems including air washer water and flow-thru cooling towers. As a wood preservative, octhilinone is used as an antisapstain drench to debarked logs.

The quaternary ammonium chloride compounds are used as materials preservatives for paints (in can), coatings, textiles, sails, ropes, fire hose, concrete additive, roofing materials, filter media and polyurethane foam and cellulose products and cleaning buffers. The chemical is also formulated to provide residual fungistatic activity in household and domestic dwellings on hard non-porous surfaces, bathroom premises (hard non-porous surfaces), and in garbage cans.

EPA has determined that the data base to support reregistration is substantially complete and that products containing ATMD, bioban P-1487, copper 8-quinolinolate, napthenate salts, octhilinone, and the trimethoxysilyl quaternary ammonium chloride compounds are eligible for reregistration, provided the risks are mitigated either in the manner described in the REDs or by another means that achieves equivalent risk reduction. Upon submission of any required product-specific data under section 4(g)(2)(B) of FIFRA and any necessary changes to the registration and labeling (either to address concerns identified in the REDs or as a result of product-specific data), EPA will make a final reregistration decision under section 4(g)(2)(C) of FIFRA for products containing ATMD, bioban P-1487, copper 8-quinolinolate, napthenate salts, octhilinone, and the trimethoxysilyl quaternary ammonium chloride compounds.

EPA is applying the principles of public participation to all pesticides undergoing reregistration and tolerance reassessment. The Agency's Pesticide Tolerance Reassessment and Reregistration; Public Participation Process, published in the Federal Register on May 14, 2004, (69 FR 26819) (FRL-7357-9) explains that in conducting these programs, EPA is tailoring its public participation process to be commensurate with the level of risk, extent of use, complexity of issues, and degree of public concern associated with each pesticide. Due to its uses, risks, and other factors, ATMD, bioban P-1487, copper 8-quinolinolate, napthenate salts, octhilinone, and the trimethoxysilyl quaternary ammonium chloride compounds were reviewed through the modified 4-Phase process. Through this process, EPA worked extensively with stakeholders and the public to reach the regulatory decisions for ATMD, bioban P-1487, copper 8-quinolinolate, napthenate salts, octhilinone, and the trimethoxysilyl quaternary ammonium chloride compounds.

The reregistration program is being conducted under congressionally mandated time frames, and EPA recognizes the need both to make timely decisions and to involve the public. The Agency is issuing the ATMD, bioban P-1487, copper 8-quinolinolate, napthenate salts, octhilinone, and the trimethoxysilyl quaternary ammonium chloride compounds REDs for public comment. This comment period is intended to provide an additional opportunity for public input and a mechanism for initiating any necessary amendments to the REDs. All comments should be submitted using the methods in ADDRESSES, and must be received by EPA on or before the comment date. These comments will become part of the Agency Docket for ATMD, bioban P-1487, copper 8-quinolinolate, napthenate salts, octhilinone, and the trimethoxysilyl quaternary ammonium chloride compounds. Comments received after the close of the comment period will be marked “late.” EPA is not required to consider these late comments.

The Agency will carefully consider all comments received by the closing date and will provide a response to comments memorandum in the docket and regulations.gov. If any comment significantly affects the document, EPA also will publish an amendment to the REDs in the Federal Register. In the absence of substantive comments requiring changes, the ATMD, bioban P-1487, copper 8-quinolinolate, napthenate salts, octhilinone, and the trimethoxysilyl quaternary ammonium chloride compounds REDs will be implemented as now presented.

B. What is the Agency's Authority for Taking this Action?

Section 4(g)(2) of FIFRA, as amended, directs that, after submission of all data concerning a pesticide active ingredient, the Administrator shall determine whether pesticides containing such active ingredient are eligible for reregistration, before calling in product-specific data on individual end-use products and either reregistering products or taking other “appropriate regulatory action.”

List of Subjects

Environmental protection, Pesticides and pests.

Dated: June 17, 2008.
Frank Sanders,
Director, Antimicrobials Division, Office of Pesticide Programs.

[FR Doc. E8-15008 Filed 7-1-08; 8:45 am]

BILLING CODE 6560-50-S